DEPARTMENT OF HOMELAND SECURITY

Coast Guard

33 CFR Part 165

[Docket No. USCG-2010-0728]

RIN 1625-AA00

Safety Zone; Red Bull Flugtag, Delaware River, Camden, NJ

AGENCY: Coast Guard, DHS.

ACTION: Temporary final rule.

SUMMARY: The Coast Guard is establishing a temporary safety zone in an area of the Delaware River, Camden, NJ, described as North of the Wiggins park Marina and South of the Benjamin Franklin Bridge. The safety zone will restrict vessel traffic from a portion of the Delaware River during the Red Bull Flugtag event. The safety zone is necessary to protect event participants, life, and property.

DATES: This rule is effective from 10 a.m. until 5 p.m. on September 4, 2010.

ADDRESSES: Documents indicated in this preamble as being available in the docket are part of docket USCG-2010-0728 and are available online by going to http://www.regulations.gov, inserting USCG-2010-0728 in the “Keyword” box, and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this temporary rule, call or e-mail LT Corrina Ott, Coast Guard; telephone 215-271-4902, e-mail Corrina.Ott@uscg.mil. If you have questions on viewing the docket, call Renee V. Wright, Program Manager, Docket Operations, telephone 202-366-9826.

SUPPLEMENTARY INFORMATION:

Regulatory Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because publishing an NPRM is impracticable and contrary to the public interest. Delaying the effective date by first publishing an NPRM and holding a comment period would be contrary to the rule's objectives of ensuring safety of life on the navigable waters during this scheduled event as immediate action is needed to protect participants of the event from vessels and vessels from any debris in the water as a result from the event.

Under 5 U.S.C. 553(d)(3), the Coast Guard finds that good cause exists for making this rule effective less than 30 days after publication in the Federal Register. Any delay in the effective date of this regulation would be contrary to the public interest as immediate action is participants of the event from vessels and vessels from any debris in the water as a result from the event.

Basis and Purpose

Red Bull has contracted to conduct a Flugtag event along the Camden Riverfront. During this event participants will enter the Delaware River from an elevated platform, utilizing makeshift flying apparatuses with the intent to maintain a controlled descent into the Delaware River. This safety zone will help protect both life and property on the navigable waterways of the Delaware River in respect to event participants and commercial and recreational vessel traffic.

Discussion of Rule

The Coast Guard establishes a temporary safety zone on the Delaware River in Camden, NJ from 10 a.m. to 5 p.m. on September 4, 2010. The safety zone will restrict vessel traffic on the Delaware River in the immediate area of the Red Bull Flugtag event taking place inside a boundary described as originating from the shoreline then west to 39°56′54″ N, 075°07′59″ W then north to 39°56′56″ N, 075°07′58″ W then north to 39°56′58″ N, 075°07′58″ W then east to 39°56′58″ N, 075°07′56″ W then east to the shoreline. The safety zone will protect event participants, life, and property while preventing vessel traffic from navigating on the Delaware River in an area described as north of the Wiggins Park Marina and south of the Benjamin Franklin Bridge. Except for persons or vessels authorized by the Coast Guard Patrol Commander, no person or vessel may enter or remain in the regulated area during the enforcement period. The COTP will notify the public of specific enforcement times by marine Radio Safety Broadcast.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order. Due to the location of the safety zone being outside of and East of Anchorage Area #13, as well as being located in an area not subject to regular flow of vessel traffic, the regulatory impact is expected to be minimal.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities: the owners or operator so vessel intending to transit East of Anchorage Area #13 in the Delaware River South of the Benjamin Franklin Bridge from 10 a.m. to 5 p.m. on September 4, 2010.

This safety zone will not have a significant economic impact on a substantial number of small entities for the following reasons. This rule will be enforced for seven hours on September 4, 2010. Additionally, the safety zone is located in an area where vessel traffic does not regularly transit, approximately 375 yards to the East of the main ship channel located in the Delaware River. Vessel traffic can pass safely around the zone. Before the enforcement period, the Coast Guard will issue maritime advisories widely available to users of the river.

Assistance for Small Entities

Under section 213(a) of the Small Business Regulatory Enforcement Fairness Act of 1996 (Pub. L. 104-121), we offer to assist small entities in understanding the rule so that they can better evaluate its effects on them and participate in the rulemaking process.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions that do not individually or cumulatively have a significant effect on the human environment. This rule is categorically excluded, under figure 2-1, paragraph (34)(g), of the Instruction and neither an environmental assessment nor an environmental impact statement is required. This rule involves a limited-in-duration safety zone intended to protect life and property on the navigable waterways of the Delaware River. An environmental analysis checklist and a categorical exclusion determination will be made available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701, 3306, 3703; 50 U.S.C. 191, 195; 33 CFR 1.05-1, 6.04-1, 6.04-6, 160.5; Pub. L. 107-295, 116 Stat. 2064; Department of Homeland Security Delegation No. 0170.1

2. Add § 165.T05-0728 to read as follows:

§ 165.T05-0728 Safety Zone; Red Bull Flugtag, Delaware River, Camden, NJ

(a) Location. The safety zone includes all waters inside a boundary described as originating from the shoreline then west to 39°56′54″ N, 075°07′59″ W then north to 39°56′56″ N, 075°07′58″ W then north to 39°56′58″ N, 075°07′58″ W then east to 39°56′58″ N, 075°07′56″ W then east to the shoreline.

(b) Definitions. (1) Coast Guard Patrol Commander means a commissioned, warrant, or petty officer of the Coast Guard who has been designated by the COTP, Delaware Bay.

(2) Official Patrol means any vessel assigned or approved by COTP, Sector Delaware Bay with a commissioned, warrant, or petty officer on board and displaying a Coast Guard ensign as well as any assisting local law enforcement vessels.

(c) Regulations:

(1) Except for persons or vessels authorized by the Coast Guard Patrol Commander, no person or vessel may enter or remain in the regulated area.

(2) The operator of any vessel in the regulated area shall:

(i) Stop the vessel immediately when directed to do so by any Official Patrol.

(ii) Proceed as directed by any Official Patrol.

(d) Effective Period. The safety zone will be in effect from 10 a.m. to 5 p.m. on September 4, 2010.

Dated: July 29, 2010.
R.T. Gatlin,
Captain, U.S. Coast Guard, Acting Captain of the Port Delaware Bay.

[FR Doc. 2010-22032 Filed 9-2-10; 8:45 am]

BILLING CODE 9110-04-P